COMMITTEE FOR PURCHASE FROM PEOPLE WHO ARE BLIND OR SEVERELY DISABLED

Procurement List; Proposed Additions

AGENCY: Committee for Purchase from People Who Are Blind or Severely Disabled.

ACTION: Proposed Additions to Procurement List.

SUMMARY: The Committee is proposing to add to the Procurement List services to be furnished by nonprofit agencies employing persons who are blind or have other severe disabilities.

Comments Must be Received on or Before: October 1, 2006.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Base Supply Center/Fort Detrick,

U.S. Army Medical Research Acquisition Activity,

820 Chandler Street, Fort Detrick, Maryland.

NPA: Industries for the Blind, Inc., West Allis, Wisconsin.

Contracting Activity: Army Contracting Agency, Fort Detrick, Maryland.

Service Type/Location: Custodial Services,

Cereal Crops Research Unit,

USDA Agricultural Research Service,

502 Walnut Street, Madison, Wisconsin.

NPA: Madison Area Rehabilitation Centers, Inc., Madison, Wisconsin.

Contracting Activity: USDA, Agriculture Research Service, Peoria, Illinois.

Service Type/Location: Custodial Services,

Veterans Center,

1642 42nd Street NE, Cedar Rapids, Iowa.

NPA: Goodwill Industries of Southeast Iowa, Iowa City, Iowa.

Contracting Activity: VA Medical Center, Iowa City, Iowa.

Service Type/Location: Shadow Boarding,

Anniston Army Depot,

7 Frankford Avenue, Bldg 221, Anniston, Alabama.

NPA: Calhoun-Cleburne Mental Health Board, Inc., Anniston, Alabama.

Contracting Activity: Anniston Army Depot.

Patrick Rowe,
Deputy Executive Director.

[FR Doc. E6-14506 Filed 8-31-06; 8:45 am]

BILLING CODE 6353-01-P